DEPARTMENT OF ENERGY

[FE Docket No. PP-242]

Application for Presidential Permit Maestros Group L.L.P.

AGENCY: Office of Fossil Energy, DOE.

ACTION: Notice of Application.

SUMMARY: Maestros Group L.L.P. (Maestros) has applied for a Presidential permit to construct, operate, maintain, and connect a double-circuit electric transmission line across the U.S. border with Mexico.

DATES: Comments, protests, or requests to intervene must be submitted on or before July 30, 2001.

ADDRESSES: Comments, protests, or requests to intervene should be addressed as follows: Office of Coal & Power Import and Export (FE-27), Office of Fossil Energy, U.S. Department of Energy, 1000 Independence Avenue, SW., Washington, DC 20585-0350.

FOR FURTHER INFORMATION CONTACT: Ellen Russell (Program Office) 202-586-9624 or Michael T. Skinker (Program Attorney) 202-586-2793.

SUPPLEMENTARY INFORMATION: The construction, operation, maintenance, and connection of facilities at the international border of the United States for the transmission of electric energy between the United States and a foreign country is prohibited in the absence of a Presidential permit issued pursuant to Executive Order (EO) 10485, as amended by EO 12038.

On May 10, 2001, Maestros, an independent power producer, filed an application with the Office of Fossil Energy (FE) of the Department of Energy (DOE) for a Presidential permit. Maestros proposes to construct a 500-megawatt (MW) combined-cycle, natural gas-fired powerplant in the vicinity of Nogales, Arizona, and a double-circuit 230,000 volt (230-kV) transmission line across the U.S. border to Nogales, Sònora, Mexico. In Mexico, Maestros plans to interconnect with the main power grid of Comision Federal de Electricidad, the national electric utility of Mexico, and to export the electrical output of the powerplant to Mexico. The generating facilities are proposed to be placed in service in late 2004; Maestros does not propose to be interconnected with the electric power system of the U.S. In a related activity, outside the jurisdiction of the DOE, Maestros proposes to construct a 100 MW natural gas-fired powerplant at the same site with the electrical output dedicated to the U.S. market.

Since restructuring of the electric power industry began, resulting in the introduction of different types of competitive entities into the marketplace, DOE has consistently expressed its policy that cross-border trade in electric energy should be subject to the same principles of comparable open access and non-discrimination that apply to transmission in interstate commerce. DOE has stated that policy in export authorizations granted to entities requesting authority to export over international transmission facilities. Specifically, DOE expects transmitting utilities owning border facilities to provide access across the border in accordance with the principles of comparable open access and non-discrimination contained in the FPA and articulated in Federal Energy Regulatory Commission Order No. 888 (Promotion Wholesale Competition Through Open Access Non-Discriminatory Transmission Services by Public utilities; FERC Stats. & Regs. ¶ 31,036 (1996)), as amended. In furtherance of this policy, on July 27, 1999, (64 FR 40586) DOE initiated a proceeding in which it noticed its intention to condition existing and future Presidential permits, appropriate for third party transmission, on compliance with a requirement to provide non-discriminatory open access transmission service. That proceeding is not yet complete. However, in this docket DOE specifically requests comment on the appropriateness of applying the open access requirement on Maestros' proposed facilities.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Additional copies of such petitions to intervene or protests also should be filed directly with: Hugh Holub, Maestros Group L.L.C., 1881 N. Mastick Way, Suite 400, Nogales, AZ 85621.

Before a Presidential permit may be issued or amended, the DOE must determine that the proposed action will not adversely impact on the reliability of the U.S. electric power supply system. In addition, DOE must consider the environmental impacts of the proposed action (i.e., granting the Presidential permit, with any conditions and limitations, or denying the permit) pursuant to the National Environmental Policy Act of 1969. DOE also must obtain the concurrence of the Secretary of State and the Secretary of Defense before taking final action on a Presidential permit application.

Copies of this application will be made available, upon request, for public inspection and copying at the address provided above. In addition, the application may be reviewed or downloaded from the Fossil Energy Home Page at: http://www.FE.DOE.GOV. Upon reaching the Fossil Energy Home page, select “Electricity” from the options menu, and then “Pending Proceedings.”

Issued in Washington, DC, on June 21, 2001.
Anthony J. Como,
Deputy Director, Electric Power Regulation, Office of Coal & Power Systems, Office of Coal & Power Import/Export, Office of Fossil Energy.

[FR Doc. 01-16113 Filed 6-28-01; 8:45 am]

BILLING CODE 6450-01-P